DEPARTMENT OF STATE

[Public Notice 11152]

Designation and Determination Pursuant to the Foreign Missions Act

Pursuant to the authority vested in the Secretary of State under the Foreign Missions Act, 22 U.S.C. 4301, et seq. (“the Act”), and delegated from the Under Secretary for Management pursuant to the Delegation of Authority No. 484, dated May 26, 2020, I hereby designate engagements between Chinese members of the People's Republic of China's foreign missions and any personnel, including but not limited to elected and appointed officials, representatives, and employees, of:

1. Any state, local, or municipal government;

2. any educational institution (public or private); and

3. any research institution (public or private), including national laboratories;

located in the United States and its territories, as well as any visit by Chinese members of the People's Republic of China's foreign missions to any such sub-national governmental facilities, educational institutions, or research institutions, as a benefit under the Act. I hereby determine it is reasonably necessary to achieve one or more of the purposes set forth in section 204(b) of the Act (22 U.S.C. 4304(b)) to require all Chinese members of the People's Republic of China's foreign missions in the United States, including all personnel of the Government of the People's Republic of China temporarily visiting the United States or its territories traveling on A-1, A-2, G-1, G-2 or G-3 visas, as well as any member of their household accompanying any such individual, to submit advance notification to the Office of Foreign Missions of such engagements or visits and to comply with any other requirements as may be established by the Director or Deputy Director of the Office of Foreign Missions with respect to this Designation and Determination, as well as to authorize the Deputy Director of the Office of Foreign Missions to modify application of these requirements as circumstances warrant. This Designation and Determination replaces Designation and Determination No. 2019-5 of October 15, 2019.

Clifton C. Seagroves,
Principal Deputy Director, Office of Foreign Missions, Department of State.

[FR Doc. 2020-14443 Filed 7-2-20; 8:45 am]

BILLING CODE 4710-43-P